DEPARTMENT OF ENERGY

Federal Energy Regulatory Commission

[Project No. 10854-131]

UP Hydro, LLC, Cataract Hydro, LLC; Notice of Application for Transfer of License and Soliciting Comments, Motions To Intervene, and Protests

On May 9, 2019, UP Hydro, LLC (transferor), and Cataract Hydro, LLC (transferee) filed an application for the transfer of license of the Cataract Hydroelectric Project No. 10854. The project is located on the Escanaba River in Marquette County, Michigan.

The applicants seek Commission approval to transfer the license for the Cataract Hydroelectric Project from the transferor to the transferee.

Applicants Contact: For transferor: Jason Kreuscher, Vice President, UP Hydro, LLC c/o Renewable World Energies, LLC, 100 State St., P.O. Box 264, Neshkoro, WI 54960, (855) 994-9376, Email: jason@rwehydro.com.

For transferee: Jason Kreuscher, Vice President, Cataract Hydro, LLC c/o Renewable World Energies, LLC, 100 State St., P.O. Box 264, Neshkoro, WI 54960, (855) 994-9376, Email: jason@rwehydro.com.

FERC Contact: Anumzziatta Purchiaroni, (202) 502-6191, Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments.

For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10854-131.

Dated: June 4, 2019.
Kimberly D. Bose,
Secretary.

[FR Doc. 2019-12203 Filed 6-10-19; 8:45 am]

BILLING CODE 6717-01-P